DEPARTMENT OF COMMERCE

International Trade Administration

[A-570-873, A-791-815]

Ferrovanadium From the People's Republic of China and the Republic of South Africa: Final Results of the Expedited Second Sunset Reviews of the Antidumping Duty Orders

AGENCY: Enforcement and Compliance, formerly Import Administration, International Trade Administration, Department of Commerce.

SUMMARY: As a result of these sunset reviews, the Department of Commerce (“the Department”) finds that revocation of the antidumping duty (“AD”) orders on ferrovanadium from the People's Republic of China (“PRC”) and the Republic of South Africa (“South Africa”) would likely lead to continuation or recurrence of dumping. The magnitudes of the dumping margins likely to prevail are indicated in the “Final Results of Sunset Reviews” section of this notice.

DATES: Effective Date: March 13, 2014.

FOR FURTHER INFORMATION CONTACT: Lori Apodaca or Howard Smith, AD/CVD Operations, Office IV, Enforcement and Compliance, International Trade Administration, U.S. Department of Commerce, 14th Street and Constitution Avenue NW., Washington, DC 20230; telephone: (202) 482-4551 or (202) 482-5193, respectively.

SUPPLEMENTARY INFORMATION:

Background

On January 28, 2003, the Department published the AD orders on ferrovanadium from the PRC and South Africa.¹ On November 1, 2013, the Department published the notice of initiation of the second sunset reviews of these AD orders, pursuant to section 751(c) of the Act.² On November 15, 2013, pursuant to 19 CFR 351.218(d)(1), the Department received timely and complete notices of intent to participate in the sunset reviews of both orders from Vanadium Producers and Reclaimers Association (“VPRA”) and VPRA members Gulf Chemical & Metallurgical Corporation (“Gulf”), Gulf's wholly-owned subsidiary Bear Metallurgical Company (“Bear”), AMG Vanadium, Inc. (“AMGV”), and Evraz Stratcor, Inc. (“Stratcor”) (collectively “Domestic Producers”). On December 2, 2013, pursuant to 19 CFR 351.218(d)(3), Domestic Producers filed a timely and adequate substantive response for both orders. The Department did not receive substantive responses from any respondent interested party. As a result, pursuant to section 751(c)(3)(B) of the Act and 19 CFR 351.218(e)(1)(ii)(C)(2), the Department conducted expedited (120-day) sunset reviews of these AD orders.

¹ See Notice of Antidumping Duty Order: Ferrovanadium from the Republic of South Africa, 68 FR 4169 (January 28, 2003); see also Notice of Amended Final Antidumping Duty Determination of Sales at Less Than Fair Value and Antidumping Duty Order: Ferrovanadium From the People's Republic of China, 68 FR 4168 (January 28, 2003).

² See Initiation of Five-Year (“Sunset”) Review, 78 FR 65614 (November 1, 2013).

Scope of the Orders

The scope of these orders covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitride vanadium, vanadium-aluminum master alloys, vanadium chemicals, vanadium oxides, vanadium waste and scrap, and vanadium-bearing raw materials such as slag, boiler residues and fly ash. Merchandise under the following Harmonized Tariff Schedule of the United States (“HTSUS”) item numbers 2850.00.2000, 8112.40.3000, and 8112.40.6000 are specifically excluded. Ferrovanadium is classified under HTSUS item number 7202.92.00. Although the HTSUS item number is provided for convenience and Customs purposes, the Department's written description of the scope of these orders remains dispositive.

Analysis of Comments Received

A complete discussion of all issues raised in these sunset reviews is provided in the accompanying Issues and Decision Memorandum, which is hereby adopted by this notice.³ The issues discussed in the I&D Memorandum include the likelihood of continuation or recurrence of dumping and the magnitude of the dumping margins likely to prevail if the orders are revoked. The I&D Memorandum is a public document and is on file electronically via Enforcement and Compliance's Antidumping and Countervailing Duty Centralized Electronic Service System (“IA ACCESS”). Access to IA ACCESS is available in the Central Records Unit, Room 7046 of the main Department of Commerce building. In addition, a complete version of the I&D Memorandum can be accessed at http://enforcement.trade.gov/frn/. The signed I&D Memorandum and the electronic version of the I&D Memorandum are identical in content.

³ See “Issues and Decision Memorandum for the Expedited Second Sunset Reviews of the Antidumping Duty Orders on Ferrovanadium from the People's Republic of China and the Republic of South Africa,” from Christian Marsh, Deputy Assistant Secretary for Antidumping and Countervailing Duty Operations to Paul Piquado, Assistant Secretary for Enforcement and Compliance, dated concurrently with this notice (“I&D Memorandum”).

Final Results of Sunset Reviews

The Department determines that revocation of the AD orders on ferrovanadium from the PRC and South Africa would be likely to lead to continuation or recurrence of dumping, with the following dumping margins likely to prevail:

Exporter/producer | Weighted- average percentage margin
PRC
Pangang Group International Economic & Trading Corporation | 12.97
PRC-Wide Entity | 66.71
South Africa
Highveld Steel and Vanadium Corporation, Ltd. | 116.00
Xstrata South Africa (Proprietary) Limited | 116.00
All Others | 116.00

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752(c), and 777(i)(1) of the Act and 19 CFR 351.218.

Dated: February 28, 2014.
Paul Piquado,
Assistant Secretary for Enforcement and Compliance.

[FR Doc. 2014-05528 Filed 3-12-14; 8:45 am]

BILLING CODE 3510-DS-P